DEPARTMENT OF HEALTH AND HUMAN SERVICES

Centers for Disease Control and Prevention

Request for Nominations for Candidates To Serve on the National Public Health Surveillance and Biosurveillance Advisory Committee (NPHSBAC)

Correction: This notice was published in the Federal Register on November 6, 2012, Volume 77, Number 215, page 66620. Paragraphs three through six of the notice should read as follows:

Federal employees will not be considered for membership. Members may be invited to serve up to four-year terms. Consideration is given to representation from diverse geographic areas, both genders, all ethnic and racial groups, and the disabled. Nominees must be U.S. citizens.

The following information must be submitted for each candidate: name, affiliation, address, telephone number, and current curriculum vitae. Email addresses are requested if available.

Nominations should be sent, in writing, and postmarked by November 30, 2012 to: Vernellia Johnson, Management and Program Analyst, Public Health Surveillance and Informatics Program Office, Centers for Disease Control and Prevention, Office of Surveillance, Epidemiology and Laboratory Services, 1600 Clifton Road NE., MS E-97, Atlanta, Georgia 30333 or via email to hft9@cdc.gov. Telephone and facsimile submissions cannot be accepted.

The Director, Management Analysis and Services Office, has been delegated the authority to sign Federal Register notices pertaining to announcements of meetings and other committee management activities for both the Centers for Disease Control and Prevention and the Agency for Toxic Substances and Disease Registry.

Dated: November 13, 2012.
Elaine L. Baker,
Director, Management Analysis and Services Office Centers for Disease Control and Prevention.

[FR Doc. 2012-28172 Filed 11-19-12; 8:45 am]

BILLING CODE 4163-18-P